DEPARTMENT OF THE INTERIOR

Bureau of Land Management

[LLNVC02000 L57000000.BX0000 241A; 10-08807; MO# 4500013122; TAS: 14X5017]

Notice of Temporary Closures of Public Lands in Washoe County, NV

AGENCY: Bureau of Land Management, Interior.

ACTION: Notice of Temporary Closure.

SUMMARY: As authorized under the provisions of the Federal Land Policy and Management Act of 1976, notice is hereby given that certain public lands near Stead, Nevada, will be temporarily closed to all public use to provide for public safety during the 2010 Reno Air Racing Association Pylon Racing Seminar and the Reno National Championship Air Races.

DATES: Effective Dates: Closure periods to all public use are September 11 through September 19, 2010.

FOR FURTHER INFORMATION CONTACT: Linda J. Kelly, (775) 885-6000, e-mail: Linda_J_Kelly@blm.gov.

SUPPLEMENTARY INFORMATION: This closure applies to all public use, including pedestrian use and vehicles. The public lands affected by this closure are described as follows:

Mount Diablo Meridian, Nevada

T. 21 N., R. 19 E.,

Sec. 8, N½NE¼, SE¼NE¼, E½SE¼;

Sec.16, N½, SE¼.

The area described contains approximately 680 acres. The closure notice and map of the closure area will be posted at the BLM Carson City District Office, 5665 Morgan Mill Road, Carson City, Nevada and on the BLM Web site: http://www.blm.gov/nv/st/en/fo/carson_city_field.html. Roads leading into the public lands under closure will be posted to notify the public of the closure.

Exceptions: Closure restrictions do not apply to event officials, medical and rescue personnel, law enforcement, and agency personnel monitoring the events.

Penalties: Any person who fails to comply with the closure orders is subject to arrest and, upon conviction, may be fined not more than $1,000 and/or imprisoned for not more than 12 months under 43 CFR 8360.0-7, violations may also be subject to the provisions of title 18, U.S.C. sections 3571 and 3581.

Authority: 43 CFR 8360.0-7 and 8364.1.

Linda J. Kelly,
Manager, Sierra Front Field Office.

[FR Doc. 2010-16151 Filed 7-1-10; 8:45 am]

BILLING CODE 4310-HC-P